DEPARTMENT OF THE INTERIOR

Bureau of Land Management

[BLM_UT_FRN_MO4500170045]

Notice of Realty Action: Modified Competitive Sale of Public Land in Emery County, Utah

AGENCY: Bureau of Land Management.

ACTION: Notice of realty action.

SUMMARY: The Bureau of Land Management (BLM) proposes a modified competitive sale of an 80-acre parcel of public land in Emery County, Utah. The parcel would be offered for sale pursuant to the John D. Dingell Jr., Conservation, Management, and Recreation Act. The sale would be subject to the applicable provisions of the Federal Land Policy and Management Act of 1976 (FLPMA), as amended, and BLM land sale regulations. The surface estate would be sold for no less than the appraised fair market value of $34,000.

DATES: Interested parties must submit written comments, postmarked, or delivered no later than December 11, 2023.

The land would not be offered for sale until after December 26, 2023.

ADDRESSES: Mail written comments or submit sealed bids to the BLM Price Field Office, Field Manager, 125 South 600 West, Price, UT 84501. Comments may also be emailed to utprmail@blm.gov: with Parcel 15 Land Sale in the subject line or hand delivered to the BLM office during business hours, 8 a.m.- 4:30 p.m. Mountain Time, Monday through Friday, except during Federal holidays.

FOR FURTHER INFORMATION CONTACT: Patrick Ahrnsbrak, Realty Specialist, BLM Price Field Office, phone: 435-781-2753, or email: pahrnsbrak@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The parcel proposed for sale is isolated from large blocks of Federal land by private land ownership, and is therefore difficult and uneconomic to manage. Enyo Renewable Energy, LLC (Enyo) initially nominated the parcel for the sale. Enyo leased private lands surrounding the parcel to develop the Hornshadow Solar Project, which is a planned 300-megawatt solar photovoltaic (PV) power generation facility that has received a conditional use permit from Emery County. The proposed development is to construct and operate solar PV facilities on lands adjoining the northern and southern boundaries of the BLM sale parcel, also known as Parcel 15. Subsequently, Enyo sold the Hornshadow Solar Project to DESRI Hornshadow Land Holdings, LLC, a wholly owned subsidiary of D.E. Shaw Renewable Investments (DESRI). DESRI has contributed to processing costs associated with the preparation of the modified competitive sale and has therefore been determined to be the designated bidder with the right to meet the highest bid.

The following described public land in Emery County, Utah, located approximately three miles southeast of the town of Castle Dale, has been examined and found suitable for sale in accordance with section 203 of FLPMA, as amended (43 U.S.C. 1713):

Parcel 15, UTU-95714

Salt Lake Meridian, Utah

T. 19 S., R. 8 E.

Sec. 11, SE1/4SE1/4;

Sec. 12, SW1/4SW1/4.

The area described contains 80 acres, according to the official plat of the survey of the said land, on file with the BLM.

The parcel proposed for modified competitive sale would include the conveyance of the surface interest of the United States in accordance with section 203 of FLPMA (43 U.S.C. 1713). All mineral interest will be reserved to the United States in accordance with FLPMA section 209 (43 U.S.C. 1719).

No warranty of any kind, express or implied, is given by the United States as to the title, whether or to what extent the land may be developed, its physical condition, future uses, or any other circumstance or condition. The conveyance of any parcel would not be on a contingency basis. However, to the extent required by law, the parcel is subject to the requirements of section 120(h) of the Comprehensive Environmental Response, Compensation and Liability Act (CERCLA).

The proposed sale conforms with the BLM Price Field Office Resource Management Plan (RMP), approved in October 2008. The lands are identified as available for disposal and listed by the legal description in Appendix R-11 of the RMP. A parcel-specific environmental assessment (EA), document number DOI-BLM-UT-G020-2022-0009-EA, was prepared in connection with this realty action and may be viewed at https://eplanning.blm.gov/eplanning-ui/project/2017592/510.

The parcel proposed for sale has been found appropriate for conveyance under section 203 of FLPMA, and consistent with the following criteria: 43 CFR 2710.0-3(a)(2), “disposal of such tract shall serve important public objectives . . .”; and 43 CFR 2710.0-3(a)(3), “such tract, because of its location or other characteristics is difficult and uneconomic to manage as part of the public lands and is not suitable for management by another Federal department or agency.” The parcel has been proposed for potential future renewable energy development, which has been identified as an important public objective. The parcel is isolated from other public lands and has no legal public access making it difficult and uneconomic to manage. Because this parcel is isolated from other public lands, has no legal public access, does not contain suitable or occupied habitat for federally protected species, or contain other protected resources, it is neither needed for any identified Federal purposes, nor suitable for management by another Federal agency.

Proceeds from the sale would be deposited into the Emery County, Utah, Land Acquisition Account, according to Public Law 116-9, Sec. 1253. Funds can be spent from that account to acquire inholdings in an Emery County wilderness area or the San Rafael Swell Recreation Area. If land acquisition opportunities are not available, the funds could be used for the protection of cultural resources on Federal land in Emery County.

Pursuant to the requirements of 43 CFR 2711.1-2(d), publication of this notice in the Federal Register will segregate the land from all forms of appropriation under the public land laws, including the mining laws, except for the sale provisions of FLPMA. Until completion of the sale, the BLM will no longer accept land use applications affecting the public land. The effect of this segregation will terminate upon issuance of a patent, publication in the Federal Register of a termination of the segregation, or two years after the date of publication in the Federal Register, unless extended by the BLM Utah State Director in accordance with 43 CFR 2711.1-2(d) prior to the termination date.

Sale Procedures: In accordance with 43 CFR 2711.3-2, modified competitive bid procedures can be used when the authorized officer determines it is necessary to recognize equitable considerations or public policies and may include, “offering to designated bidders the right to meet the highest bid” (2711.3-2(a)(1)(i)), or “a limitation of persons permitted to bid on a specific tract of land offered for sale” (2711.3-2(a)(1)(ii)). Due to limited access, the parcel would be offered by modified competitive sale where the bidders are limited to adjacent landowners or entities with current legal access to the parcel. Because of its contribution to processing costs, and existing policy to promote renewable energy development, DESRI would be designated the right to meet the highest bid. The purpose of the sale is to implement land tenure adjustment decisions in the RMP.

Sealed bids for Parcel 15 must be submitted to the BLM Price Field Office at 125 South 600 West, Price, UT 84501, not later than 4 p.m. Mountain Time on December 26, 2023. Bid envelopes must be marked on the lower left front corner as follows: Parcel 15 Land Sale—Sealed Bid. Bids must be for not less than the appraised fair market value of $34,000 as stated in this notice. Each sealed bid shall be accompanied by a certified check, postal money order, bank draft, or cashier's check made payable to the Department of the Interior, BLM, for not less than 10 percent of the bid amount. DESRI must also submit a sealed bid according to the provisions above to indicate their continued interest in the parcel and will then be given the opportunity to meet the highest bid. The remainder of the full bid price must be paid by the successful bidder within 180 calendar days of the date of sale. Failure to pay the full price within 180 days will disqualify the apparent high bidder and cause the bid deposit to be forfeited to the BLM. Bid deposits submitted by unsuccessful bidders will be returned.

If the parcel is not sold pursuant to this notice, it may remain available to non-competitive offers for no less than the fair market value. The acceptance or rejection of any offer to purchase the parcel shall be given in writing by the BLM authorized officer no later than 30 days after receipt of such offer unless the offeror waives this right.

The conveyance document, if issued, will include the following terms, covenants, conditions, and reservations:

1. A reservation to the United States for ditches and canals constructed by the authority of the United States under the Act of August 30, 1890;

2. A reservation to the United States of all mineral rights;

3. Valid existing rights issued prior to conveyance, including Oil and Gas Lease UTU-91334 and Grazing Permit UT25050 (subject to 2-year cancellation notice); and

4. Additional terms and conditions that the authorized officer deems appropriate.

The EA, maps, and associated documents are available for review at the location listed in the ADDRESSES section.

Interested parties and the public may submit in writing any comments concerning the land being considered for sale, including notification of any encumbrances or other claims relating to the identified land, to Parcel 15 Land Sale, BLM Price Field Office, at the address listed in the ADDRESSES section by the deadline listed in the DATES section.

Comments may also be emailed to utprmail@blm.gov with Parcel 15 Land Sale in the subject line, or hand delivered to the BLM office during business hours, 8 a.m.-4:30 p.m. Mountain Time, Monday through Friday, except during Federal holidays, at the address listed in the ADDRESSES section.

Before including your address, phone number, email address, or other personal identifying information in your comment, be aware that your entire comment, including your personal identifying information, may be made publicly available at any time. The BLM will not consider comments received via telephone calls.

The BLM Utah State Director will review adverse comments regarding the parcel and may sustain, vacate, or modify this realty action, in whole or in part. In the absence of timely adverse comments, this realty action will become the final determination of the Department of the Interior. The BLM may accept or reject any or all offers or withdraw any land or interest in land from sale.

(Authority: 43 CFR 2710 and Pub. L. 116-9, sec. 1253)

Gregory Sheehan,
State Director.

[FR Doc. 2023-23632 Filed 10-25-23; 8:45 am]

BILLING CODE 4331-25-P